DEPARTMENT OF DEFENSE

Office of the Secretary

[Docket ID DoD-2014-OS-0103]

Privacy Act of 1974; System of Records

AGENCY: Defense Information Systems Agency, DoD.

ACTION: Notice to amend a System of Records.

SUMMARY: The Defense Information Systems Agency is amending a system of records notice, K890.16, entitled “Enterprise Mission Assurance Support Service (EMASS)” in its existing inventory of record systems subject to the Privacy Act of 1974, as amended. This notice is being amended to add “DoD” to the system ID, as it is a DoD-wide system.

DATES: Comments will be accepted on or before August 11, 2014. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jeanette Weathers-Jenkins, DISA Privacy Officer, Chief Information Office, 6916 Cooper Avenue, Fort Meade, MD 20755-7901, or by phone at (301)225-8158.

SUPPLEMENTARY INFORMATION: The Defense Information Systems Agency systems of records notices subject to the Privacy Act of 1974 (5 U.S.C. 552a), as amended, have been published in the Federal Register and are available from the address in FOR FURTHER INFORMATION CONTACT or at http://dpclo.defense.gov/.

The proposed change to the record system being amended is set forth below. The proposed amendment is not within the purview of subsection (r) of the Privacy Act of 1974 (5 U.S.C. 552a), as amended, which requires the submission of a new or altered system report.

Dated: July 7, 2014.
Aaron Siegel,
Alternate OSD Federal Register Liaison Officer, Department of Defense.

K890.16

System name:

Enterprise Mission Assurance Support Service (EMASS) (January 30, 2014, 79 FR 4889)

* * * * *

Change system ID to read “K890.16 DoD”.

* * * * *

[FR Doc. 2014-16178 Filed 7-10-14; 8:45 am]

BILLING CODE 5001-06-P